DEPARTMENT OF COMMERCE

U.S. Census Bureau

Proposed Information Collection; Comment Request; Generic Clearance for Census 2010 Communication Campaign Pre-Testing and Evaluation

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 20, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Nancy Bates, U.S. Census Bureau, Room 8H486, Washington, DC 20233-9150, (301) 763-5248 (or via the Internet at nancy.a.bates@census.gov).

SUPPLEMENTARY INFORMATION:

I. Abstract

The Census Bureau plans to request OMB approval of a generic information collection clearance to conduct a variety of research activities as part of the pretesting, evaluation, and monitoring for the 2010 Census Integrated Communications Campaign. Under this generic clearance, a block of hours will be dedicated to these activities for each of the next two years. OMB will be informed in writing of the purpose and scope of each of these activities, as well as the time frame and the number of burden hours used. The number of hours used will not exceed the number set aside for this purpose.

This research program will be used by the Census Bureau and its vendors to test and improve advertising and partnership materials (e.g., posters, billboards, brochures, television advertisements, radio spots, Web sites, etc.) and ultimately increase the quality and effectiveness of the communications campaign in encouraging participation in the 2010 Census.

The information will be used to development and conduct pretesting of materials prior to placing them into production as well as to monitor and evaluate responses to communications. Research activities will involve one of the following methods: one-on-one interviews, focus groups, respondent debriefings, usability tests, or tracking surveys.

II. Method of Collection

Any of the following methods may be used: mail, telephone, face-to-face interviews; paper-and-pencil, CATI, CAPI or Internet.

III. Data

OMB Control Number: None.

Form Number: Various.

Type of Review: Regular submission.

Affected Public: Individuals or households.

Estimated Number of Respondents: 13,000.

Estimated Time Per Response: 1 hour.

Estimated Total Annual Burden Hours: 13,000.

Estimated Total Annual Cost: $0.

Respondent's Obligation: Voluntary.

Legal Authority: Title 13 U.S.C., Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 15, 2008.
Gwellnar Banks,
Management Analyst, Office of the Chief Information Officer.

[FR Doc. E8-19346 Filed 8-20-08; 8:45 am]

BILLING CODE 3510-07-P